DEPARTMENT OF THE INTERIOR

Fish and Wildlife Service

50 CFR Part 17

RIN-1018-AF45

Endangered and Threatened Wildlife and Plants; Final Rule To Remove the Umpqua River Cutthroat Trout From the List of Endangered Wildlife

AGENCIES: Fish and Wildlife Service, Interior.

ACTION: Final rule.

SUMMARY: We, the U.S. Fish and Wildlife Service (FWS), are amending the current regulations by removing the entry of the Umpqua River Ecologically Significant Unit (ESU) of the coastal cutthroat trout (Oncorhynchus clarki clarki) from the List of Endangered and Threatened Wildlife (List). The National Marine Fisheries Service (NMFS), which has jurisdiction for this population, has determined that the Umpqua River cutthroat trout population, formerly identified as an ESU of the species, is part of a larger population segment that previously was determined to be neither endangered nor threatened as defined by the Endangered Species Act (Act). Therefore, NMFS determined that the Umpqua River cutthroat trout should be removed from the List of Endangered and Threatened Wildlife and recommended that the Department of the Interior implement this action by amending the List accordingly. We concur with the determination by NMFS and are removing all of the Act's protections, including critical habitat designation, for this population in the Umpqua River basin.

DATES: This rule is effective April 26, 2000.

ADDRESSES: The complete file for this rule is available for inspection, by appointment, during normal business hours, at Branch of Conservation and Classification, Division of Endangered Species, U.S. Fish and Wildlife Service, 4401 N. Fairfax Dr., Room 420, Arlington, Virginia 22203.

FOR FURTHER INFORMATION CONTACT: Nancy Gloman, Chief, Division of Endangered Species, U.S. Fish and Wildlife Service, at the above address or telephone 703/358-2171.

SUPPLEMENTARY INFORMATION:

Background

The coastal cutthroat trout subspecies (Oncorhynchus clarki clarki) is native to western North America and is found in the coastal temperate rainforests from southeast Alaska to northern California (Trotter 1989). The populations addressed in this document inhabit the Umpqua River basin of coastal Oregon. Details of the coastal cutthroat trout's life history and ecology, including particular aspects of the various resident and migratory life forms, can be found in published reviews by Pauley et al. (1989), Trotter (1989), Behnke (1992), Johnson et al. (1994), and Johnson et al. (1999).

Previous ESA Actions Related to Coastal Cutthroat Trout

Descriptions of previous Federal actions pertaining to coastal cutthroat trout are summarized in the Federal Register notice on the transfer of agency jurisdiction (65 FR 21376, April 21, 2000), final delisting rule published by NMFS (65 FR 20915, April 19, 2000), the proposed delisting rule (64 FR 16397, April 5, 1999), and the initial listing determination (61 FR 41514, August 9, 1996). In response to a petition, NMFS proposed to list the Umpqua River coastal cutthroat trout ESU as endangered on July 8, 1994 (59 FR 35089), and made the listing final on August 9, 1996 (61 FR 41514). The listing was followed by a critical habitat designation on January 9, 1998 (63 FR 1388).

Determinations

After making the initial findings to list the Umpqua River cutthroat trout, NMFS conducted an expanded review of coastal cutthroat trout that identified six ESUs in Washington, Oregon, and California (Johnson 1999). One of the conclusions of this more comprehensive review was that the Umpqua River cutthroat trout population was part of a larger Oregon Coast ESU bounded by Cape Blanco in the south and the Columbia River mouth in the north. Moreover, NMFS determined that the larger ESU did not warrant listing under the ESA. In light of these findings, NMFS proposed to delist the Umpqua River ESU on April 5, 1999 (64 FR 16397). This proposal was announced jointly with us because section 4(a)(2)(B) of the Act requires our concurrence on any NMFS delisting action. The proposal also noted that a determination would be made regarding which of the two agencies should have sole jurisdiction over the species of which the Umpqua River ESU is a part. On April 21, 2000, the agencies published a document announcing that we would retain this authority, but that NMFS would complete the final determination on the Umpqua delisting proposal (65 FR 21376).

The agencies requested information on all aspects of the April 1999 delisting proposal, and NMFS held public hearings May 25-26, 1999, to solicit additional comments (64 FR 20248, April 26, 1999). In accordance with a July 1, 1994, interagency policy (59 FR 34270), NMFS also solicited scientific peer review on the proposal from species experts. A summary of the comments received and the NMFS responses can be found in the final delisting rule published by NMFS on April 19, 2000 (65 FR 20915).

Based on an assessment of the best available scientific and commercial information, and after taking into account public and peer review comments, NMFS found that the Umpqua River ESU of the coastal cutthroat trout is not a valid “distinct population segment,” as defined by a joint NMFS/FWS policy published on February 7, 1996 (61 FR 4722). Therefore, NMFS concludes that the Umpqua River cutthroat trout should be removed from the Federal List of Endangered and Threatened Wildlife, thereby removing all protections provided by the Act. In accordance with section 4(a)(2)(B) of the Act, NMFS has recommended that the Department of the Interior implement this action by amending the List accordingly. We have reviewed the complete administrative record regarding this action, find that the determination is well based, and concur that the Umpqua River ESU of the coastal cutthroat trout should be removed from the List. Therefore, in accordance with section 4(a)(2) of the Act, we are amending the List (50 CFR 17.11(h)) by revising the regulations to remove the entry for this population.

Effects of the Final Rule

This action removes Umpqua River cutthroat trout from the List of Endangered and Threatened Wildlife. The Act and its implementing regulations set forth a series of general prohibitions that apply to all endangered animals. All prohibitions of section 9(a)(1) of the Act, implemented by 50 CFR 223.203, currently apply to Umpqua River cutthroat trout. These prohibitions, in part, make it illegal for any person subject to the jurisdiction of the United States to take (includes harass, harm, pursue, hunt, shoot, wound, kill, trap, capture, or collect; or to attempt any of these), import or export, ship in interstate or foreign commerce in the course of a commercial activity, or sell or offer for sale in interstate or foreign commerce any endangered wildlife species. It is also illegal to possess, sell, deliver, carry, transport, or ship any such wildlife that has been taken illegally. Once removed from the List, these prohibitions will no longer apply to Umpqua River cutthroat trout.

The requirements of section 7 of the Act will also no longer apply to Umpqua River cutthroat trout, and Federal agencies will no longer be required to consult on their actions that may affect Umpqua River cutthroat trout.

The 1988 amendments to the Act require that all species which have been delisted due to recovery be monitored for at least 5 years following delisting. Umpqua River cutthroat trout is being delisted due to a reevaluation of the ESUs in Oregon and California that indicated that the Umpqua River ESU is not a valid ESU, and that the Umpqua River cutthroat trout is part of a larger ESU. Therefore, since this delisting is not due to recovery, no monitoring period is required.

Critical habitat for the Umpqua River cutthroat trout was designated on January 9, 1998 (63 FR 1388). It includes all estuarine areas and river reaches accessible to the species in the Umpqua River basin, except areas above longstanding, naturally impassable barriers. The Act defines critical habitat as “specific areas within the geographical area occupied by the species, at the time it is listed, on which are found those physical or biological features essential to the conservation of the species and which may require special management considerations or protection.” Because critical habitat can be designated only for species listed as endangered or threatened under the Act, upon publication of this final rule to amend the regulations, critical habitat would no longer be designated for the Umpqua River cutthroat trout population.

This final rule is issued under 50 CFR part 17 and is not subject to Office of Management and Budget review under Executive Order 12866. Because this rule implements a determination previously subject to notice and comment and will relieve regulatory restrictions, the Service Director, under section 553(b)(3)(B) and (d) of the Administrative Procedure Act (5 U.S.C. 553 et seq.), for good cause, finds that it is unnecessary to provide additional notice and public comment on this rule or to delay for 30 days its effective date.

National Environmental Policy Act

We have determined that environmental assessments and environmental impact statements, as defined under the authority of the National Environmental Policy Act of 1969, need not be prepared in connection with regulations adopted pursuant to section 4(a) of the Act. We published a notice outlining our reasons for this determination in the Federal Register on October 25, 1983 (48 FR 49244).

References Cited

A complete list of all references cited herein, as well as others, is available upon request from the Branch of Conservation and Classification (see ADDRESSES section).

Author

The primary author of this final rule is Tim Van Norman, Branch of Conservation and Classification (see ADDRESSES section).

List of Subjects in 50 CFR Part 17

Endangered and threatened species, Exports, Imports, Reporting and recordkeeping requirements, and Transportation.

Regulations Promulgation

Accordingly, part 17, subchapter B of chapter I, title 50 of the Code of Federal Regulations, is amended as set forth below:

PART 17—[AMENDED]

1. The authority citation for part 17 continues to read as follows:

Authority: 16 U.S.C. 1361-1407; 16 U.S.C. 1531-1544; 16 U.S.C. 4201-4245; Pub. L. 99-625, 100 Stat. 3500; unless otherwise noted.

§ 17.11 [Amended]

2. Section 17.11(h) is amended by removing the entry for “Trout, Umpqua River cutthroat, Oncorhynchus (=Salmo) clarki clarki” under “FISHES” from the List of Endangered and Threatened Wildlife.

Dated: April 10, 2000.
Jamie Rappaport Clark,
Director, Fish and Wildlife Service.

[FR Doc. 00-10372 Filed 4-25-00; 8:45 am]

BILLING CODE 4310-55-P